DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans).

SUMMARY: The FHWA, on behalf of Caltrans, is issuing this notice to announce actions taken by Caltrans that are final. The actions relate to a proposed highway project, the State Route 84 (SR 84) Expressway Widening and SR 84/Interchange 680 (I-680) Interchange Improvements Project from post miles 17.9 to 22.9 on SR 84 and from post miles 10.3 to 15.3 on I-680 in the County of Alameda, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 31, 2018. If the Federal law that authorizes judicial review of a claim provides a time period of less than 150 days for filing such claim, then that shorter time period still applies.

FOR FURTHER INFORMATION CONTACT: For Caltrans: Brian Gassner, Environmental Branch Chief, 111 Grand Avenue MS 8B, Oakland, CA 94612, 510-286-6025 (Voice), email brian.gassner@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: The State Route 84 (SR 84) Expressway Widening and SR 84/Interchange 680 (I-680) Interchange Improvements Project would widen and conform SR 84 to expressway standards between south of Ruby Hill Drive and the I-680 interchange. The project would also improve SR 84/I-680 interchange ramps and extend the existing southbound I-680 High Occupancy Vehicle/express lane (HOV/express lane) northward by approximately 2 miles, to approximately 0.8 mile north of Koopman Road. The project area is in Pleasanton, Sunol, and unincorporated Alameda County. The actions by the Federal agencies, and the laws under which such actions were taken, are described in the Environmental Assessment (EA) and Finding of No Significant Impact (FONSI) for the project, approved on May 30th, 2018. The EA, FONSI, and other project records are available by contacting Caltrans at the address provided above. The Caltrans EA and FONSI can be viewed and downloaded from the project website at www.dot.ca.gov/d4/84expresswayproject.

This notice applies to all Federal agency decisions as of the issuance date of this notice and all laws under which such actions were taken, including but not limited to:

1. National Environmental Policy Act (NEPA)

2. Fixing America's Surface Transportation Act (Fast Act)

3. Clean Air Act

4. Federal-Aid Highway Act

5. Clean Water Act

6. Historic Sites Act

7. Section 106 of the National Historic Preservation Act

8. Archeological Resources Protection Act

9. Archeological and Historic Preservation Act

10. Antiquities Act

11. Endangered Species Act

12. Migratory Bird Treaty Act

13. Fish and Wildlife Coordination Act

14. Magnuson-Stevens Fishery Conservation and Management Act

15. Section 4(f) of the Department of Transportation Act

16. Civil Rights Act, Title VI

17. Farmland Protection Policy Act

18. Uniform Relocation Assistance and Real Property Acquisition Policies Act

19. Rehabilitation Act

20. Americans with Disabilities Act

21. Comprehensive Environmental Response, Compensation, and Liability Act (CERCLA)

22. Resource Conservation and Recovery Act (RCRA)

23. Safe Drinking Water Act

24. Occupational Safety and Health Act

25. Atomic Energy Act

26. Toxic Substances Control Act

27. Federal Insecticide, Fungicide and Rodenticide Act

28. E.O. 11990 Protection of Wetlands; E.O. 11988 Floodplain Management

29. E.O. 12898, Federal Actions to Address Environmental Justice in Minority Populations and Low Income Populations

30. E.O. 12088, Federal Compliance with Pollution Control Standards

(Catalog of Federal Domestic Assistance Program Number 20.205, Highway Planning and Construction. The regulations implementing Executive Order 12372 regarding intergovernmental consultation on Federal programs and activities apply to this program.)

Authority: 23 U.S.C. 139(l)(1).

Issued on: July 27, 2018.
Tashia Clemons,
Director, Planning and Environment, Federal Highway Administration, Sacramento, California.

[FR Doc. 2018-16569 Filed 8-1-18; 8:45 am]

BILLING CODE 4910-RY-P